DEPARTMENT OF ENERGY

Federal Energy Regulatory Commission

[Docket No. EC03-28-000, et al.]

Chandler Wind Partners, LLC, et al.; Electric Rate and Corporate Filings

December 13, 2002.

The following filings have been made with the Commission. The filings are listed in ascending order within each docket classification.

1. Chandler Wind Partners, LLC, Foote Creek II, LLC, Foote Creek III, LLC, Foote Creek IV, LLC, Ridge Crest Wind Partners, LLC, Cinergy Global Power, Inc., Caithness Energy, L.L.C.

[Docket Nos. EC03-28-000, ER01-390-001, ER99-3450-003, ER99-2769-004, ER00-2706-001 and ER01-2760-001]

Take notice that on December 10, 2002, Chandler Wind Partners, LLC, Foote Creek II, LLC, Foote Creek III, LLC, Foote Creek IV, LLC, Ridge Crest Wind Partners, LLC (together, Wind Projects), Cinergy Global Power, Inc. (Cinergy Global), and Caithness Energy, L.L.C. (Caithness) (collectively, Applicants) filed with the Federal Energy Regulatory Commission an application pursuant to section 203 of the Federal Power Act and notice of change in status with respect to the transfer of the Wind Projects from Cinergy Global to Caithness.

Comment Date: December 31, 2002.

2. Calpine Parlin, Inc.

[Docket No. EC03-29-000].

Take notice that on December 9, 2002, Calpine Parlin, Inc.(CPI) tendered for filing with the Federal Energy Regulatory Commission (Commission) an application under section 203 of the Federal Power Act for approval of the conversion of CPI's form of business organization to a limited liability company and the addition of an independent director to its board.

Comment Date: December 30, 2002.

3. San Diego Gas & Electric Company, Complainant v. Sellers of Energy and Ancillary Services Into Markets Operated by the California Independent System Operator and the California Power Exchange, Respondents;

[Docket Nos. EL00-95-045 and Investigation of Practices of the California Independent System Operator and the California Power Exchange EL00-98-042]

On December 12, 2002, Administrative Law Judge Bruce L. Birchman issued a Certification Of Proposed Findings On California Refund Liability (Findings), in the above-docketed proceedings. Initial comments on the Findings are due to be filed with the Commission on or before January 13, 2003. Reply comments shall be filed on or before February 3, 2003.

4. City of Vernon, California

[Docket No. EL03-31-000]

Take notice that on December 9, 2002, the City of Vernon, California (Vernon) tendered for filing the annual update to its Transmission Revenue Balancing Account Adjustment (TRBA Adjustment) and to Appendix I of its Transmission Owner Tariff (TO Tariff), to reflect that update.

Consistent with the California Independent System Operator Corporation (ISO) FERC Electric Tariff, Vernon requests a January 1, 2003 effective date for its filing.

Vernon states that copies of this filing have been served on the California Independent System Operator Corporation and the three other Participating Transmission Owners, as well as served upon all individuals on the service list in Commission Docket No. EL02-103.

Comment Date: January 8, 2003.

5. Illinois Power Company

[Docket No. EL03-32-000]

Take notice that on December 10, 2002, Illinois Power Company filed a Petition for Declaratory Order Confirming Requirements Under Open-Access Tariff pursuant to Rule 207(a)(2) of the Rules of Practice and Procedure of the Federal Energy Regulatory Commission (Commission), 18 CFR 385.207(a)(2), requesting that the Commission issue an order confirming (1) that the Constellation Agreement did not qualify as a designated network resource under Illinois Power's OATT and (2) that the NERC's TLR procedures and the curtailment provisions of the OATT conform to the Commission's design for open-access transmission and obligated Illinois Power to curtail Corn Belt's Network Integration Transmission Service on thirteen days during the summer of 2000. Texas Eastern states that copies of this filing were mailed to Corn Belt and interested state regulatory agencies.

Comment Date: January 9, 2003.

6. New York Independent System Operator, Inc.

[Docket No. ER00-3591-016 and ER00-1969-018]

Take notice that on December 9, 2002, New York Independent Systems Operator, Inc. (NYISO) filed a report on certain Bid Production Cost Guarantee (BPCG) costs and payments, in accordance with Commission's Order on Compliance Filings.

Comment Date: December 30, 2002.

7. Consumers Energy Company

[Docket No. ER03-153-002]

Take notice that on December 11, 2002 Consumers Energy Company (Consumers) tendered for filing a revised cover sheet for the Service Agreement it filed earlier in this docket. Copies of the filing were served upon the Customer and the Michigan Public Service Commission.

Comment Date: January 2, 2003.

8. TXU Pedricktown Cogeneration Company LP

[Docket No. ER03-256-000]

Take notice that on December 9, 2002, TXU Pedricktown Cogeneration Company LP (TXU Pedricktown), tendered for filing a Notice of Succession pursuant to Section 35.16 of the Commission's Regulations, 18 CFR 35.16. As a result of a name change, TXU Pedricktown is succeeding to the tariffs and related service agreements of Pedricktown Cogeneration Limited Partnership, effective December 3, 2002.

Comment Date: December 30, 2002.

9. Arizona Public Service Company

[Docket No. ER03-258-000]

Take notice that on December 9, 2002, Arizona Public Service Company (APS) made a compliance filing in the above-reference docket to update the corrected effective date.

A copy of this filing has been served on all parties of record.

Comment Date: December 30, 2002.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 02-32011 Filed 12-18-02; 8:45 am]

BILLING CODE 6717-01-P